DEPARTMENT OF EDUCATION

[CFDA Nos. 84.007, 84.032, 84.033, 84.038, 84.063, 84.069, 84.268, 84.375, 84.376, and 84.37]

Student Assistance General Provisions, Federal Supplemental Educational Opportunity Grant, Federal Family Education Loan, Federal Work-Study, Federal Perkins Loan, Federal Pell Grant, Leveraging Educational Assistance Partnership, William D. Ford Federal Direct Loan, Academic Competitiveness Grant, National Science and Mathematics Access To Retain Talent Grant, and Teacher Education Assistance for College and Higher Education Programs

Correction

In notice document 2010-12558 beginning on page 29524 in the issue of Wednesday, May 26, 2010, make the following correction:

On page 29526, in the first column, after the signature block insert the following graphics.

BILLING CODE 1301-00-D

[FR Doc. C1-2010-12558 Filed 6-7-10; 8:45 am]

BILLING CODE 1301-00-C